DEPARTMENT OF HEALTH AND HUMAN SERVICES

National Institutes of Health

Prospective Grant of an Exclusive Patent License: Powered Gait Assistance Systems and Gait Assistance Systems and Methods of Control Thereof

AGENCY: National Institutes of Health, HHS.

ACTION: Notice.

SUMMARY: The Clinical Center of the National Institutes of Health, Department of Health and Human Services, is contemplating the grant of an Exclusive Patent License to practice the inventions embodied in the patent applications listed in the Supplementary Information section of this notice to Bionic Power Inc., a company organized in British Columbia, Canada.

DATES: Only written comments and/or applications for a license which are received by the National Cancer Institute's Technology Transfer Center on or before March 16, 2026 will be considered.

ADDRESSES: Requests for copies of the patent application, inquiries, and comments relating to the contemplated an Exclusive Patent License should be directed to: Edward Fenn, Senior Technology Transfer Manager, NCI Technology Transfer Center, Telephone: (240)-276-6833; Email Tedd.Fenn@nih.gov.

SUPPLEMENTARY INFORMATION:

Intellectual Property

1. US Provisional Patent Application No. 62/368,926 filed July 29, 2016, and entitled “Powered Gait Assistance Systems” [HHS Reference No. E-096-2016-0-US-01];

2. International PCT Application No. PCT/US2017/044625 filed July 31, 2017, and entitled “Powered Gait Assistance Systems” [HHS Reference No. E-096-2016-0-PCT-02];

3. US Patent No. 11,801,153 issued 10/31/2023, and entitled “Powered Gait Assistance Systems” [HHS Reference No. E-096-2016-0-US-03];

4. US Patent Application No. 18/243,573, filed 9/7/2023, and entitled “Powered Gait Assistance Systems” [HHS Reference No. E-096-2016-0-US-04];

5. US Provisional Patent Application No. 63/539,898 filed September 22, 2023, and entitled “Powered Gait Assistance Systems” [HHS Reference No. E-241-2023-0-US-01];

6. International PCT Application No. PCT/US2024/047743 filed September 20, 2024, and entitled “Powered Gait Assistance Systems” [HHS Reference No. E-241-2023-PCT-02];

The patent rights in these inventions have been assigned to the Government of the United States of America.

The prospective exclusive license territory may be worldwide where patent rights exist and the field of use may be limited to the following:

“For the treatment of human movement disorders.”

The subject technologies relate to systems, methods, and devices for powered gait assistance—that may be integrated to comprise a wearable orthosis (for example a powered exoskeletal device) that attaches to the leg of a user who has a movement disorder, such as a gait disorder. The technologies can augment and provide assistance and training for improvements to walking. The system can detect movements, such as gait phases and adjust torque in real time to provide assistive torque during stance and resistive torque during training to improve strength and movement mechanics of the user. For example, it can provide assistance with gait movement for patients with knee extension deficits in conditions such as crouch gait in cerebral palsy, or spina bifida, stroke and other movement disorders).

This Notice is made in accordance with 35 U.S.C. 209 and 37 CFR part 404. The prospective exclusive license will be royalty bearing, and the prospective exclusive license may be granted unless within fifteen (15) days from the date of this published notice, the National Cancer Institute receives written evidence and argument that establishes that the grant of the license would not be consistent with the requirements of 35 U.S.C. 209 and 37 CFR part 404.

Complete applications for a license that are timely filed in response to this notice will be treated as objections to the grant of the contemplated exclusive patent license. In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: February 25, 2026.
Richard U. Rodriguez,
Supervisory Technology Transfer and Patent Specialist, Technology Transfer Center, National Cancer Institute.

[FR Doc. 2026-03994 Filed 2-26-26; 8:45 am]

BILLING CODE 4140-01-P